INTERNATIONAL TRADE COMMISSION

[Investigation No. 731-TA-1315 (Final)]

Ferrovanadium From Korea; Determination

On the basis of the record ¹ developed in the subject investigation, the United States International Trade Commission (“Commission”) determines, pursuant to the Tariff Act of 1930 (“the Act”), that an industry in the United States is materially injured by reason of imports of ferrovanadium from Korea, provided for in subheading 7202.92.00 of the Harmonized Tariff Schedule of the United States, that have been found by the Department of Commerce (“Commerce”) to be sold in the United States at less than fair value (“LTFV”).

¹ The record is defined in sec. 207.2(f) of the Commission's Rules of Practice and Procedure (19 CFR 207.2(f)).

Background

The Commission, pursuant to section 735(b) of the Act (19 U.S.C. 1673d(b)), instituted this investigation effective March 28, 2016, following receipt of a petition filed with the Commission and Commerce by AMG Vanadium LLC of Cambridge, Ohio; Evergreen Metallurgical Company DBA Bear Metallurgical Company of Butler, Pennsylvania; Gulf Chemical and Metallurgical Corporation of Freeport, Texas; and Evraz Stratcor, Inc. of Hot Springs, Arkansas (collectively the Vanadium Producers and Reclaimers Association). The Commission scheduled the final phase of the investigation following notification of a preliminary determination by Commerce that imports of ferrovanadium from Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on December 5, 2016 (81 FR 87590). The hearing was held in Washington, DC, on March 21, 2017, and all persons who requested the opportunity were permitted to appear in person or by counsel.

The Commission made this determination pursuant to section 735(b) of the Act (19 U.S.C. 1673d(b)). It completed and filed its determination in this investigation on May 8, 2017. The views of the Commission are contained in USITC Publication 4683 (May 2017), entitled Ferrovanadium from Korea: Investigation No. 731-TA-1315 (Final).

By order of the Commission.
Issued: May 8, 2017.
Lisa R. Barton,
Secretary to the Commission.

[FR Doc. 2017-09630 Filed 5-11-17; 8:45 am]

BILLING CODE 7020-02-P